DEPARTMENT OF EDUCATION

Notice of Proposed Information Collection Requests

AGENCY: Department of Education.

ACTION: Notice of proposed information collection requests.

SUMMARY: The Leader, Regulatory Information Management, Office of the Chief Information Officer, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by January 7, 2004. A regular clearance process is also beginning. Interested persons are invited to submit comments on or before March 9, 2004.

ADDRESSES: Written comments regarding the emergency review should be addressed to the Office of Information and Regulatory Affairs, Attention: Melanie Kadlic, Desk Officer: Department of Education, Office of Management and Budget; 725 17th Street, NW., Room 10235, New Executive Office Building, Washington, DC 20503 or should be electronically mailed to the internet address Melanie_Kadlic@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: January 5, 2004.
Angela C. Arrington,
Leader, Regulatory Information Management Group, Office of the Chief Information Officer.

Office of Elementary and Secondary Education

Type of Review: Reinstatement.

Title: Elementary and Secondary Education Act (ESEA) Title I, Part C (Education of Migratory Children) Migrant Child Count Report.

Abstract: The report collects information on the numbers of identified eligible migratory children in the States, for use in allocating State Migrant Education Program (MEP) formula grant funds and for reporting on the size of the migrant child population to Congress and the public.

Additional Information: The Department is requesting emergency processing for this information collection since failure to collect the 2002-03 migrant child count information in a timely manner will cause public harm in that the delay would diminish the reliability of the child counts and thus negatively affect the accuracy of the State MEP formula allocations. The reliability of child counts will suffer if data collection is delayed because many of the student record systems maintained by the State educational agencies (SEAs) from which these counts are generated are “dynamic” systems (i.e., the databases are continuously updated to include newly identified children.) Delays in reporting the 2002-03 child counts beyond December 1, 2003 will increase the likelihood that some SEAs will, by re-running their child counts after December 1, inadvertently count and report additional children who would not otherwise have been counted and reported to ED as “Category 1” or “Category 2” within the usual (i.e., by December 1) reporting cycle. This will mean that not all States who ran the final counts after December 1 receiving higher allocations at the expense of the other States who ran their final counts before December 1.

Because States have always annually reported their migrant child counts to the Department for allocation purposes, the data requested through this emergency clearance is not new or unexpected. All States have already collected the requested data and are awaiting an approved reporting mechanism from the Department to submit these data. All of the MEP child count information from the 2002-2003 reporting period is readily available for collection as the SEAs maintain migrant student record systems for many purposes. In summary, we are requesting an emergency review and clearance of a MEP Child Count Report containing the following information items: 12-Month Count of Students Eligible for Funding Purposes; Summer/Intersession Count of Participants Eligible for Funding Purposes; and a written summary of the procedures the state used to collect, compile and verify the accuracy of the child counts.

We request OMB's emergency clearance of the MEP Child Count Report by January 7, 2004.

Frequency: Annually.

Affected Public: State, local, or tribal gov't, SEAs or LEAs.

Reporting and Recordkeeping Hour Burden:

Responses: 52.

Burden Hours: 1560.

Requests for copies of the proposed information collection request may be accessed from http://edicsweb.ed.gov, by selecting the “Browse Pending Collections” link and by clicking on link number 2430. When you access the information collection, click on “Download Attachments” to view. Written requests for information should be addressed to Vivian Reese, Department of Education, 400 Maryland Avenue, SW., Room 4050, Regional Office Building 3, Washington, DC 20202-4651 or to the e-mail address vivan.reese@ed.gov. Requests may also be electronically mailed to the Internet address OCIO_RIMG@ed.gov or faxed to 202-708-9346. Please specify the complete title of the information collection when making your request.

Comments regarding burden and/or the collection activity requirements, contact Kathy Axt at her e-mail address Kathy.Axt@ed.gov. Individuals who use a telecommunications device for the deaf (TDD) may call the Federal Information Relay Service (FIRS) at 1-800-877-8339.

[FR Doc. 04-393 Filed 1-8-04; 8:45 am]

BILLING CODE 4000-1-P